DEPARTMENT OF ENERGY

Federal Energy Regulatory Commission

Combined Notice of Filings No. 1

November 20, 2009.

Take notice that the Commission has received the following Natural Gas Pipeline Rate and Refund Report filings:

Docket Numbers: RP10-150-000.

Applicants: Southern Star Central Gas Pipeline, Inc.

Description: Southern Star Central Gas Pipeline, Inc. Annual OFO Refund Report.

Filed Date: 11/18/2009.

Accession Number: 20091118-5045.

Comment Date: 5 p.m. Eastern Time on Monday, November 30, 2009.

Docket Numbers: RP10-151-000.

Applicants: Rockies Express Pipeline LLC.

Description: Rockies Express Pipeline LLC submits request for temporary delivery point changes during force majeure service outage and for limited waivers.

Filed Date: 11/18/2009.

Accession Number: 20091119-0003.

Comment Date: 5 p.m. Eastern Time on Monday, November 30, 2009.

Docket Numbers: RP10-152-000.

Applicants: Northern Natural Gas Company.

Description: Northern Natural Gas Company submits Second Revised Sheet 66B.01c et al. to its FERC Gas Tariff, Fifth Revised Volume 1 to be effective 11/19/09.

Filed Date: 11/18/2009.

Accession Number: 20091119-0004.

Comment Date: 5 p.m. Eastern Time on Monday, November 30, 2009.

Docket Numbers: RP10-153-000.

Applicants: El Paso Natural Gas Company.

Description: El Paso Natural Gas Company submits Eighth Revised Sheet 374 et al. to its FERC Gas Tariff, Second Revised Volume 1A to be effective 1/1/2010.

Filed Date: 11/18/2009.

Accession Number: 20091119-0002.

Comment Date: 5 p.m. Eastern Time on Monday, November 30, 2009.

Docket Numbers: RP10-154-000.

Applicants: Tennessee Gas Pipeline Company.

Description: Tennessee Gas Pipeline Company submits for acceptance First Revised Sheet 92 et al. to its FERC Gas Tariff, Fifth Revised Volume 1 to be effective 12/17/09.

Filed Date: 11/18/2009.

Accession Number: 20091119-0001.

Comment Date: 5 p.m. Eastern Time on Monday, November 30, 2009.

Docket Numbers: RP10-155-000.

Applicants: Hardy Storage Company LLC.

Description: Hardy Storage Company submits certain amendments to its Credit Annexes as a follow up to the 10/18/2007 informational filing.

Filed Date: 11/16/2009.

Accession Number: 20091119-0055.

Comment Date: 5 p.m. Eastern Time on Monday, November 30, 2009.

Docket Numbers: RP10-156-000.

Applicants: Northern Natural Gas Company.

Description: Northern Natural Gas Company submits First Revised Sheet 66B.01c et al. to its FERC Gas Tariff, Fifth Revised Volume 1.

Filed Date: 11/17/2009.

Accession Number: 20091119-0054.

Comment Date: 5 p.m. Eastern Time on Monday, November 30, 2009.

Docket Numbers: RP10-157-000.

Applicants: Northwest Pipeline GP.

Description: Northwest Pipeline GP submits for acceptance Fourth Revised Sheet 7 to its FERC Gas Tariff, Fourth Revised Volume 10, to be effective 1/1/10.

Filed Date: 11/17/2009.

Accession Number: 20091119-0053.

Comment Date: 5 p.m. Eastern Time on Monday, November 30, 2009.

Docket Numbers: RP10-158-000.

Applicants: Ozark Gas Transmission, LLC.

Description: Ozark Gas Transmission, LLC submits First Revised Sheet 11 to its FERC Gas Tariff, First Revised Volume 1, to be effective 12/18/09.

Filed Date: 11/18/2009.

Accession Number: 20091119-0051.

Comment Date: 5 p.m. Eastern Time on Monday, November 30, 2009.

Docket Numbers: RP10-159-000.

Applicants: Hardy Storage Company LLC.

Description: Hardy Storage Company LLC submits amendments to Credit Annexes.

Filed Date: 11/16/2009.

Accession Number: 20091116-5147.

Comment Date: 5 p.m. Eastern Time on Monday, November 30, 2009.

Docket Numbers: RP10-160-000.

Applicants: Kern River Gas Transmission Company.

Description: Kern River Gas Transmission Company submits Fourth Revised Sheet 97 et al. of its FERC Gas Tariff, Second Revised Volume 2, to be effective 12/19/09.

Filed Date: 11/19/2009.

Accession Number: 20091119-0063.

Comment Date: 5 p.m. Eastern Time on Tuesday, December 01, 2009.

Docket Numbers: RP10-161-000.

Applicants: Dominion Transmission, Inc.

Description: Dominion Transmissions, Inc submits report of 13 non-conforming service agreements relating to storage service provided to former Texas Eastern Rate Schedule.

Filed Date: 11/19/2009.

Accession Number: 20091119-0064.

Comment Date: 5 p.m. Eastern Time on Tuesday, December 01, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E9-28399 Filed 11-25-09; 8:45 am]

BILLING CODE 6717-01-P